DEPARTMENT OF HEALTH AND HUMAN SERVICES

Centers for Disease Control and Prevention

[60Day-07-07BB]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Testing of Sexual Violence Definitions and Recommended Data Elements in Three Different Racial/Ethnic Minority Communities -New-National Center for Injury Prevention and Control (NCIPC), Centers for Disease Control and Prevention (CDC). The data collection methodology will be conducted in two phases. The first phase consists of 36 in-person cognitive interviews conducted with women of African American, Hispanic, or American Indian descent. To assess the effectiveness and appropriateness of questions in the sexual violence survey instrument, we will conduct a series of 12 cognitive interviews with adult women from each of these minority groups (for a total of 36 interviews). Cognitive interviewing offers a structured methodology for ascertaining whether the respondent has understood the questions in the way the researchers intend them to be understood, and to assess the ability of the respondents to provide meaningful, accurate, and honest information. A secondary purpose is to make sure that issues pertinent to the research goals are covered adequately.

The second phase of data collection (“main data collection'') will entail 200 in-person interviews with women in each of the minority groups to develop an estimate of sexual violence prevalence within these three communities and describe the characteristics of sexual violence within each community.

Background and Brief Description

This study examines the definitions of sexual violence in three racial/ethnic minority communities: African-American, American Indian, and Hispanic. The purpose of this project is to develop an understanding of sexual violence in these communities. The developed survey will include the following: Projecting estimates of sexual violence; describing the type of sexual violence; and developing a strategy that will increase awareness of sexual violence in minority communities. In addition, this project will establish the groundwork for similar future research.

This research builds on findings from the National Violence against Women Survey (NVAW) (OMB No. 1121-0188; expiration 5/1998), a joint research effort funded by the (CDC) and National Institute of Justice (NIJ) that explored the occurrence of violence against women through a survey administered to a national sample of adult females and males. The proposed study will expand on this work by clarifying definitions, expanding the categories of sexual violence, and examining the sexual violence event.

This study will focus on women and will occur in two phases: Cognitive and in-person interviews. In each of the three communities, in-depth cognitive interviews will be conducted with 12 adult women, for a total of 36 cognitive interviews. However, a total of 66 individuals will be screened. Respondents will be identified through agencies working with victims of sexual violence. Participants will be interviewed (in either English or Spanish) at the referral agency. The primary purpose of this interview is to assess the questions for the next phase of the study.

In the next phase, researchers will conduct face-to-face interviews with approximately 200 women in each of the three minority communities for a total of 600 women. However, a total of 701 individuals will be screened. Female respondents who are 18 years old will be selected randomly from the communities. Letters will be mailed to each household in the sample. These households will be contacted at a later date in order to collect eligibility information and to randomly select an individual. Participants will complete a 45 minute interview.

There are no costs to respondents except for their time to participate in the interview.

Estimate of Annualized Burden Hours
Respondents | Number of respondents | Number of responses per respondent | Average burden per response (in hours) | Total burden (in hours)
Phase One: Screening for Cognitive Interview | 66 | 1 | 3/60 | 3
Phase One: Cognitive Interview | 36 | 1 | 2 | 72
Phase Two: Screening for Main Survey | 701 | 1 | 5/60 | 58
Phase Two: Main Survey | 600 | 1 | 45/60 | 450
Total |  |  |  | 583

Dated: May 18, 2007.
Maryam I. Daneshvar,
Acting Reports Clearance Officer, Centers for Disease Control and Prevention.

[FR Doc. E7-10027 Filed 5-23-07; 8:45 am]

BILLING CODE 4163-18-P